DEPARTMENT OF COMMERCE

National Oceanic and Atmospheric Administration

[I.D. 020205B]

Proposed Information Collection; Comment Request; Highly Migratory Species Vessel Logbooks and Cost-Earnings Data Reports

AGENCY: National Oceanic and Atmospheric Administration (NOAA).

ACTION: Notice.

SUMMARY: The Department of Commerce, as part of its continuing effort to reduce paperwork and respondent burden, invites the general public and other Federal agencies to take this opportunity to comment on a proposed and continuing information collection, as required by the Paperwork Reduction Act of 1995.

DATES: Written comments must be submitted on or before April 8, 2005.

ADDRESSES: Direct all written comments to Diana Hynek, Departmental Paperwork Clearance Officer, Department of Commerce, Room 6625, 14th and Constitution Avenue NW, Washington DC 20230 (or via the Internet at dHynek@doc.gov).

FOR FURTHER INFORMATION CONTACT: Requests for additional information or copies of the information collection instrument and instructions should be directed to Joseph Desfosse, Highly Migratory Species Management Division (F/SF1), Office of Sustainable Fisheries, NMFS, 1315 East-West Highway, Silver Spring, MD 20910 (phone 301-713-2347).

SUPPLEMENTARY INFORMATION:

I.Abstract

Under the provisions of the Magnuson-Stevens Fishery Conservation and Management Act (16 U.S.C. 1801 et seq.), the National Oceanic and Atmospheric Administration's National Marine Fisheries Service (NMFS) is responsible for management of the Nation's marine fisheries. In addition, NMFS must comply with the United States' obligations under the Atlantic Tunas Convention Act of 1975 (16 U.S.C. 971 et seq.). NMFS collects information via vessel logbooks to monitor the U.S. catch of Atlantic swordfish, sharks, marlins, and tunas in relation to the quotas, thereby ensuring that the United States complies with its domestic and international obligations. The information supplied through vessel logbooks also provides the catch and effort data necessary to assess the status of highly migratory species and to evaluate bycatch in each fishery. International stock assessments for tunas, swordfish, marlins, and some species of sharks are conducted and presented to the International Commission for the Conservation of Atlantic Tunas (ICCAT) periodically and provide, in part, the basis for ICCAT management recommendations which become binding on member nations. Domestic stock assessments for most species of sharks are used as the basis of managing these species. Supplementary information on fishing costs and earnings has been collected via this vessel logbook program. This economic information enables NMFS to assess the economic impacts of regulatory programs on small businesses and fishing communities, consistent with NEPA, Executive Order 12866, the Regulatory Flexibility Act, and other domestic law.

II.Method of Collection

Currently, log books are being completed and submitted in paper form.

III. Data

OMB Number: 0648-0371.

Form Number: NOAA Form 88-191.

Type of Review: Regular submission.

Affected Public: Business or other for-profit organizations (vessel owners).

Estimated Number of Respondents: 7,635.

Estimated Time Per Response: 10 minutes for cost/earnings summaries attached to logbook reports; 12 minutes for logbook catch reports; and 2 minutes for negative logbook catch reports.

Estimated Total Annual Burden Hours: 30,378.

Estimated Total Annual Cost to Public: $0 (no capital expenditures required).

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 28, 2005.
Gwellnar Banks,
Management Analyst, Office of the Chief Information Officer.

[FR Doc. 05-2291 Filed 2-4-05; 8:45 am]

BILLING CODE 3510-22-S